DEPARTMENT OF AGRICULTURE

Food Safety and Inspection Service

[Docket No. 01-047N]

Codex Alimentarius Commission: 34th Session of the Codex Committee on Food Additives and Contaminants

AGENCY: Office of the Under Secretary for Food Safety, USDA.

ACTION: Notice of public meeting, request for comments.

SUMMARY: The Office of the Under Secretary for Food Safety, U.S. Department of Agriculture (USDA), and the Food and Drug Administration (FDA), are sponsoring a public meeting on February 4, 2002, to provide information and receive public comments on agenda items that will be discussed at the meeting of the Codex Committee on Food Additives and Contaminants (CCFAC), which will be held in Rotterdam, The Netherlands, on March 11-15, 2002. The Under Secretary and FDA recognize the importance of providing interested parties the opportunity to obtain background information on the Thirty-fourth Session of the Additives and Contaminants Committee of the Codex Alimentarius Commission (Codex) and to address items on the Agenda for the 34th CCFAC.

DATES: The public meeting is scheduled for Monday, February 4th, 2002, from 1 p.m. to 4 p.m.

ADDRESSES: The public meeting will be held in Room 1409, FOB 8, 200 C. St. SW., Washington, DC. To receive copies of the documents referenced in the notice contact the FSIS Docket Clerk, U.S. Department of Agriculture, Food Safety and Inspection Service, Room 102, Cotton Annex, 300 12th Street, SW, Washington, DC 20250-3700. The documents will also be accessible via the World Wide Web at the following address: http://www.codexalimentarius.net/ccfac34/fa02—01e.htm. If you have comments, please send an original and two copies to the FSIS Docket Room, Docket #01-047N. All comments submitted will be available for public inspection in the Docket Clerk's Office between 8:30 a.m. and 4:30 p.m., Monday through Friday.

FOR FURTHER INFORMATION CONTACT: Patrick J. Clerkin, Associate U.S. Manager for Codex, U.S. Codex Office, FSIS Room 4861, South Building, 1400 Independence Avenue S.W., Washington, DC 20250-3700, telephone: (202) 205-7760, Fax: (202) 720-3157. Persons requiring a sign language interpreter or other special accommodations should notify Mr. Patrick J. Clerkin at the above telephone number.

SUPPLEMENTARY INFORMATION:

Background

Codex was established in 1962 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and EPA manage and carry out U.S. Codex activities.

The Codex Committee on Food Additives and Contaminants establishes or endorses maximum or guideline levels for individual food additives, for contaminants (including environmental contaminants) and for naturally occurring toxicants in foodstuffs and animal feeds. In addition, the Committee prepares priority lists of food additives and contaminants for toxicological evaluation by the Joint FAO/WHO Expert Committee on Food Additives; recommends specifications of identity and purity for food additives for adoption by the Commission; considers methods of analysis and sampling for the determination of food additives and contaminants in food; and considers and elaborates standards or codes for related subjects such as the labelling of food additives when sold as such, and food irradiation. The Committee is chaired by The Netherlands.

Issues To Be Discussed at the Public Meeting

The provisional agenda items will be discussed during the public meeting:

1. Adoption of the Agenda (CX/FAC 02/1)

2. Matters referred by the Codex Alimentarius Commission and other Codex Committees (CX/FAC 02/2)

3. Summary Report of the 57th Meeting of the Joint FAO/WHO Expert Committee on Food Additives (JECFA)

4. Action Required as a Result of Changes in ADI Status and other Toxicological Recommendations (CX/FAC 02/3)

5. Discussion Paper on the Application of Risk Analysis Principles for Food Additives and Contaminants (CX/FAC 02/4)

Food Additives

1. Endorsement and/or Revision of Maximum Levels for Food Additives in Codex Standards (CX/FAC 02/5)

2. Discussion Paper on the Relationship Between Codex Commodity Standards and the Codex General Standard for Food Additives, including Consideration of the Food Category System (CX/FAC 02/6)

3. Consideration of the Codex General Standard for Food Additives (GSFA) (CX/FAC 02/7 and CX/FAC 02/8)

4. Discussion Paper on the Processing Aids and Carriers (CX/FAC 02/9)

5. Discussion Paper on the Use of Active Chlorine (CX/FAC 02/10)

6. Draft Revised Codex General Standard for Irradiated Foods (CX/FAC 02/11)

7. Proposed Draft Revised Recommendation for International Code of Practice for Radiation Processing of Food (CX/FAC 02/12)

8. Specifications for the Identity and Purity of Food Additives Arising from the 57th JECFA Meeting (CX/FAC 02/13)

9. Proposed Amendments to the International Numbering System (CX/FAC 02/14)

Contaminants

1. Endorsement and/or Revision of Maximum Levels for Contaminants in Codex Standards (CX/FAC 02/15)

2. Codex General Standard for Contaminants and Toxins in Foods (CX/FAC 02/16)

3. Proposed Draft Principles for Exposure Assessment of Contaminants and Toxins in Foods (CX/FAC 02/17)

4. Mycotoxins in Food and Feed

(a) Draft Maximum Levels for Ochratoxin A in Wheat, Barley and Rye and Derived Products (CX/FAC 02/18)

(b) Draft Maximum levels for Patulin in Apple Juice and Apple Juice Ingredients in Other Beverages (CX/FAC 02/19)

(c) Proposed Draft Code of Practice for the Prevention of Patulin Contamination in Apple Juice and Apple Juice Ingredients in Other Beverages (CX/FAC 02/20)

(d) Proposed Draft Code of Practice for the Prevention of Mycotoxin Contamination in Cereals, Including Annexes on Ochratoxin A, Zearalenone, Fumonisin and Tricothecenes (CX/FAC 02/21)

(e) Discussion Paper on Aflatoxins in Pistachios (CX/FAC 02/22)

5. Industrial and Environmental Contaminants in Foods

(a) Draft Maximum Levels for Lead in Fish, Crustaceans, and Bivalve Molluscs (CX/FAC 01/23)

(b) Proposed Draft Maximum Levels for Cadmium (CX/FAC 01/24)

(c) Proposed Draft Maximum Levels for Tin (CX/FAC 02/25)

(d) Position Paper on Dioxins and Dioxin Like PCBs, including Methods of Analysis (CX/FAC 02/26)

(e) Proposed Draft Code of Practice for Source Directed Measures to Reduce Dioxin and Dioxin Like PCB Contamination of Foods (CX/FAC 02/27)

(f) Position Paper on Chloropropanols (CX/FAC 02/28)

(g) Discussion Paper on Dexoynivalenol (CX/FAC 02/29)

General Issues

1. Proposals for Priority Evaluation of Food Additives and Contaminants by JECFA (CX/FAC 02/30)

2. Other Business and Future Work

(a) Comments on Methods of Analysis and Sampling for the Determination of Food Additives and Contaminants in Foods (CX/FAC 02/31)

Each issue listed will be fully described in documents distributed, or to be distributed, by The Netherlands' Secretariat to the Meeting. Members of the public may access or request copies of these documents (see ADDRESSES).

Public Meeting

At the February 4th public meeting, the agenda items will be described, discussed, and attendees will have the opportunity to pose questions and offer comments. Comments may be sent to the FSIS Docket Room (see ADDRESSES). Written comments should state that they relate to activities of the 34th CCFAC.

Additional Public Notification

Pursuant to Departmental Regulation 4300-4, “Civil Rights Impact Analysis,” dated September 22, 1993, FSIS has considered the potential civil rights impact of this notice on minorities, women, and persons with disabilities. Therefore, to better ensure that these groups and others are made aware of this meeting, FSIS will announce it and provide copies of the Federal Register publication in the FSIS Constituent Update.

The Agency provides a weekly FSIS Constituent Update, which is communicated via fax to over 300 organizations and individuals. In addition, the update is available on line through the FSIS web page located at http://www.fsis.usda.gov. The update is used to provide information regarding Agency policies, procedures, regulations, Federal Register Notices, FSIS public meetings, recalls and any other types of information that could affect or would be of interest to our constituents/stakeholders. The constituent fax list consists of industry, trade, and farm groups, consumer interest groups, allied health professionals, scientific professionals and other individuals that have requested to be included. Through these various channels, the Agency is able to provide information with a much broader, more diverse audience.

For more information and to be added to the constituent fax list, fax your request to the Office of Congressional and Public Affairs, at (202) 720-5704.

Done at Washington, DC on: January 23, 2002.
F. Edward Scarbrough,
U.S. Manager for Codex Alimentarius.

[FR Doc. 02-2134 Filed 1-28-02; 8:45 am]

BILLING CODE 3410-DM-P